DEPARTMENT OF HOMELAND SECURITY

Coast Guard

33 CFR Part 110

[CGD01-02-129]

RIN 2115-AA98

Anchorage Regulations; Rockland, ME

AGENCY: Coast Guard, DHS.

ACTION: Notice of proposed rulemaking.

SUMMARY: The Coast Guard proposes to amend the anchorage regulations for Rockland Harbor by redesignating anchorage ground “C” as a special anchorage area and reorienting anchorage ground “A”. This proposed action is necessary to (1) alert mariners that vessels moored within special anchorage “C”, are not required to sound signals or display anchor lights or shapes, and (2) provide a wider navigable channel between the two anchorages. This action is intended to increase the safety of life and property on navigable waters, improve the safety of anchored vessels in both anchorage “A” and the special anchorage area, and provide for the overall safe and efficient flow of vessel traffic and commerce.

DATES: Comments and related material must reach the Coast Guard on or before June 2, 2003.

ADDRESSES: You may mail comments and related material to Commander (oan) (CGD01-02-129), First Coast Guard District, 408 Atlantic Ave., Boston, Massachusetts 02110, or deliver them to room 628 at the same address between 8 a.m. and 3 p.m., Monday through Friday, except Federal holidays. Comments and material received from the public, as well as documents indicated in this preamble as being available in the docket, will become part of this docket and will be available for inspection or copying at room 628, First Coast Guard District Boston, between 8 a.m. and 3 p.m., Monday through Friday, except Federal holidays.

FOR FURTHER INFORMATION CONTACT: Mr. J. J. Mauro, Commander (oan), First Coast Guard District, 408 Atlantic Ave., Boston, MA 02110, Telephone (617) 223-8355.

SUPPLEMENTARY INFORMATION:

Request for Comments

We encourage you to participate in this rulemaking by submitting comments and related material. If you do so, please include your name and address, identify the docket number for this rulemaking (CGD01-02-129), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of comments received.

Public Meeting

We do not now plan to hold a public meeting. But you may submit a request for a meeting by writing to the Office of Aids to Navigation Branch at the address under ADDRESSES explaining why one would be beneficial. If we determine that one would aid this rulemaking, we will hold one at a time and place announced by a later notice in the Federal Register.

Background and Purpose

The proposed rule is in response to a request made by the City of Rockland and Hartley Marine Services, Rockland, Maine, to accommodate the increased number of vessels mooring in Penobscot Bay, Rockland Harbor, and provide for safe navigation between the anchorages within that harbor. This proposed rule would re-designate anchorage ground “C”, identified in 33 CFR 110.130(a)(3), as a special anchorage area and reorient anchorage “A”, identified in 33 CFR 110.130(a)(1).

The Coast Guard has determined that the small commercial and recreational vessels now anchoring in anchorage “C” do not have the ability to maintain anchor lights sufficient to meet anchorage ground requirements. Vessel traffic, as well as users of anchorage “C”, would transit and anchor more safely when anchorage “C” is designated a special anchorage area, limited to vessels less than 20 meters in length, since transiting vessels will neither expect sound signals nor anchor lights or shapes from all moored vessels. Thus, establishing a special anchorage area will better meet future vessel traffic expectations of that area when it is redesignated as such and limited to vessels no greater than 20 meters in length.

In order to facilitate the safe and efficient flow of vessel traffic and commerce between anchorages “A” and the newly designated special anchorage area, the Coast Guard proposes to reorient anchorage “A”. Reorienting anchorage “A” would provide a wider channel between the two above-mentioned anchorages. Additionally, a wider channel would allow safer passage for vessels anchoring in anchorage “A” and the special anchorage area as well as vessel traffic transiting via Atlantic Point.

In developing this proposed rule, the Coast Guard has consulted with the Army Corps of Engineers, Northeast, located at 696 Virginia Rd., Concord, MA 01742.

Discussion of Proposed Rule

This proposed rule redesignates one anchorage ground and reorients another. The Coast Guard proposes to amend 33 CFR 110.130, Rockland Harbor, by removing anchorage ground “C”, identified in 33 CFR 110.130(a)(3), then establishing that same area as a special anchorage area. The special anchorage area will be established and identified in an added section, 33 CFR 110.4. The special anchorage area would be limited to vessels no greater than 20 meters in length. Vessels not more than 20 meters in length are not required to sound signals as required by rule 35 of the Inland Navigation Rules (33 U.S.C. 2035) or exhibit anchor lights or shapes required by rule 30 of the Inland Navigation Rules (33 U.S.C 2030) when at anchor in a special anchorage area.

The Coast Guard also proposes to reorient anchorage ground “A”, identified in 33 CFR 110.130(a)(1) to create a wider channel between anchorage “A” and the special anchorage area. Reorienting anchorage “A” would facilitate the safe and efficient flow of vessel traffic and commerce between anchorages “A” and the newly designated special anchorage area. The wider channel would also allow unrestricted navigation for large commercial vessels and fishing vessels requiring access to facilities in the vicinity of Atlantic Point.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979).

We expect the economic impact of this proposed rule to be so minimal that a full Regulatory Evaluation under paragraph 10e of the regulatory policies and procedures of DOT is unnecessary.

This finding is based on the fact that this proposal conforms to the changing needs of the harbor, the changing needs of recreational, fishing and commercial vessels, and to make the best use of the available navigable water. This proposed rule is in the interest of safe navigation and protection of the Port of Rockland and the marine environment.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule should have minimal economic impact on lobster fishing vessels and owners or operators of vessels intending to transit to facilities in the vicinity of Atlantic Point or anchor in the newly created special anchorage area in Rockland Harbor.

This finding is based on the fact that the proposed change in the anchorage grounds and establishment of a special anchorage area conform to the changing geography of the harbor, the changing needs of commercial vessels and the increasing amount of recreational traffic in the area. They are all proposed in the interest of safe navigation and protection of the marine environment.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact John J. Mauro at the address listed in ADDRESSES above.

Collection of Information

This proposed rule would call for no new collection of information under the Paperwork Reduction Act of 1995 (44 U.S.C. 3501-3520).

Federalism

We have analyzed this proposed rule under Executive Order 13132 and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this proposed rule and concluded that, under figure 2-1, paragraph 34(f), of Commandant Instruction M16475.1D, this proposed rule is categorically excluded from further environmental documentation. A “Categorical Exclusion Determination” is available in the docket where indicated under ADDRESSES. This proposed rule fits paragraph 34(f) as it revises one anchorage ground and establishes a special anchorage area.

List of Subjects in 33 CFR Part 110

Anchorage grounds.

Regulations

For the reasons discussed in the preamble, the Coast Guard proposes to amend 33 CFR part 110 as follows:

PART 110—ANCHORAGE REGULATIONS

1. The authority citation for part 110 is revised to read as follows:

Authority: 33 U.S.C. 471; 1221 through 1236, 2030, 2035 and 2071; Department of Homeland Security Delegation No. 0170 and 33 CFR 1.05-1(g).

2. Add § 110.4 to read as follows:

§ 110.4 Penobscot Bay, Maine.

(a) Rockland Harbor. Beginning at a point bearing 244°, 1,715 yards, from Rockland Breakwater Light; thence 260°, 490 yards, to a point bearing 248° from Rockland Breakwater Light; thence 350°, 580 yards, to a point bearing 263° from Rockland Breakwater Light; thence 83°, 480 yards, to a point bearing 263° from Rockland Breakwater Light; and thence 169°, 550 yards, to the point of beginning.

This area is limited to vessels no greater than 20 meters in length.

Note to paragraph (a): This area is primarily for use by yachts and other recreational craft. Temporary floats or buoy for marking the location of the anchor may be used. All moorings shall be so placed that no vessel, when anchored, shall at any time extend beyond the limits of the area. All anchoring in the area shall be under the supervision of the local harbormaster or such authority as may be designated by authorities of the City of Rockland, Maine. Requests for placement of mooring buoys shall be directed to the local government. Fixed mooring piles or stakes are prohibited.

3. Remove § 110.130(a)(3).

4. Revise § 110.130 to read as follows:

§ 110.130 Rockland Harbor, Maine.

(a) The anchorage grounds. (1) Anchorage A. Beginning at a point bearing 158°, 1,075 yards, from Rockland Breakwater Light; thence 252°, 2,020 yards, to a point bearing 224° from Rockland Breakwater Light; thence 345°, 740 yards, to a point bearing 242° from Rockland Breakwater Light; thence 72°, 1,300 yards, to a point bearing 222° from Rockland Breakwater Light; and thence 120°, 1,000 yards, to the point of beginning.

(2) * * *

(b) Regulations. (1) Anchorages A and B are general anchorage grounds reserved for merchant vessels, commercial vessels or passenger vessels over 65 feet in length. Fixed moorings, piles or stakes are prohibited.

(2) A distance of approximately 500 yards shall be left between Anchorages A and B for vessels entering or departing from the Port of Rockland. A distance of approximately 100 yards shall be left between Anchorage A and the Special Anchorage Area for vessels entering or departing facilities in the vicinity of Atlantic Point. Any vessel anchored in these anchorages shall be capable of moving and when ordered to move by the Captain of the Port shall do so with reasonable promptness.

* * * * *

Dated: March 3, 2003.
Vivien S. Crea,
RADM, U.S. Coast Guard, Commander, First Coast Guard District.

[FR Doc. 03-7806 Filed 3-31-03; 8:45 am]

BILLING CODE 4910-15-U